ENVIRONMENTAL PROTECTION AGENCY

40 CFR Part 271

[EPA-R06-RCRA-2018-0506; FRL-10019-76-Region 6]

Texas: Final Authorization of State Hazardous Waste Management Program Revision

AGENCY: Environmental Protection Agency (EPA).

ACTION: Final rule.

SUMMARY: On November 5, 2020, the Environmental Protection Agency (EPA) published a Proposed Rule to approve a revision to the State of Texas hazardous waste program under the Resource Conservation and Recovery Act (RCRA) and provided for a thirty-day public comment period. The public comment period closed on December 7, 2020, and EPA did not receive adverse comments. EPA confirms that the program revisions to the State of Texas hazardous waste program satisfy all requirements needed to qualify for final authorization. No further opportunity for comment will be provided.

DATES: This final authorization is effective March 5, 2021.

ADDRESSES: EPA has established a docket for this action under Docket ID Number EPA-R06-RCRA-2018-0506. All documents in the docket are listed on the http://www.regulations.gov website. Although listed in the index, some of the information is not publicly available. e.g., Confidential Business Information (CBI) or other information whose disclosure is restricted by statute. Certain other material, such as copyrighted material, will be publicly available only in hard copy form. Publicly available docket materials are available electronically through http://www.regulations.gov.

FOR FURTHER INFORMATION CONTACT: Alima Patterson, EPA Region 6 Regional Authorization/Codification Coordinator, RCRA Permits & Solid Waste Section (LCR-RP), Land, Chemicals and Redevelopment Division, EPA Region 6, 1201 Elm Street, Suite 500, Dallas, Texas 75270, phone number: (214) 665-8533, email address: patterson.alima@epa.gov. Out of an abundance of caution for members of the public and our staff, the EPA Region 6 office will be closed to the public to reduce the risk of transmitting COVID-19. Please call or email the contact listed above if you need alternative access to material indexed but not provided in the docket.

SUPPLEMENTARY INFORMATION:

A. What changes to Texas' hazardous waste program is EPA authorizing with this action?

On December 5, 2018, the State of Texas submitted a final complete program revision application seeking authorization of its program revision in accordance with 40 CFR 271.21. EPA is finalizing its decision that Texas' hazardous waste program revisions satisfy all the requirements necessary to qualify for final authorization. EPA will continue to implement and enforce Hazardous and Solid Waste Amendments of 1984 (HSWA) provisions for which the State is not authorized. For a complete list of rules that become effective with this Final Rule, please see the Proposed Rule published in the November 5, 2020, Federal Register at 85 FR 70558.

B. What is codification and is the EPA codifying Texas' hazardous waste program as authorized in this rule?

Codification is the process of placing the State's statutes and regulations that comprise the State's authorized hazardous waste program into the Code of Federal Regulations (CFR). We do this by referencing the authorized State rules in 40 CFR part 272. We reserve the amendment of 40 CFR part 272 subpart SS for this authorization of Texas' program changes until a later date. In this authorization application, the EPA is not codifying the rules documented in the Proposed Rule published in the November 5, 2020, Federal Register at 85 FR 70558.

C. Administrative Requirements

This final authorization revises Texas' authorized hazardous waste management program pursuant to RCRA section 3006 and imposes no requirements other than those currently imposed by State law. For further information on how this authorization complies with applicable Executive Orders and statutory provisions, please see the Proposed Rule published in the November 5, 2020, Federal Register at 85 FR 70558. The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2). This final action is effective March 5, 2021.

List of Subjects in 40 CFR Part 271

Environmental protection, Administrative practice and procedure, Confidential business information, Hazardous waste, Hazardous waste transportation, Indian lands, Intergovernmental relations, Penalties, Reporting and recordkeeping requirements.

Authority: This action is issued under the authority of sections 2002(a), 3006, and 7004(b) of the Solid Waste Disposal Act as amended 42 U.S.C. 6912(a), 6926, 6974(b).

Dated: February 24, 2021.
David Gray,
Acting Regional Administrator, Region 6.

[FR Doc. 2021-04353 Filed 3-4-21; 8:45 am]

BILLING CODE 6560-50-P